DEPARTMENT OF TRANSPORTATION

Surface Transportation Board

[STB Finance Docket No. 35248]

Natchez Railway, LLC—Acquisition and Operation Exemption—Illinois Central Railroad Company

Natchez Railway, LLC (Natchez), a noncarrier, has filed a verified notice of exemption under 49 CFR 1150.31 to acquire and operate approximately 65.6 route miles of rail line owned by Illinois Central Railroad Company (ICR) between milepost 86.0 near Brookhaven, MS, and milepost 148.34 in Natchez, MS, including the International Paper Spur in Natchez.

This transaction is related to a concurrently filed verified notice of exemption in STB Finance Docket No. 35249, Kern W. Schumacher—Continuance in Control Exemption—Grenada Railway, LLC and Natchez Railway, LLC, wherein Kern W. Schumacher seeks to continue in control of Grenada Railway, LLC (Grenada), and Natchez Railway, LLC, upon their becoming Class III rail carriers.¹

¹ STB Finance Docket No. 35249 is also related to STB Finance Docket No. 35247, Grenada Railway, LLC—Acquisition and Operation Exemption—Illinois Central Railroad Company and Waterloo Railway Company, wherein Grenada has filed a notice of exemption to acquire and operate lines of ICR and Waterloo Railway Company.

The transaction is expected to be consummated on or shortly after June 12, 2009 (30 days after the exemption was filed).

Natchez certifies that, as a result of the proposed transaction, it will not become a Class II or Class I rail carrier and further certifies that its projected annual revenue will not exceed $5 million.

Pursuant to the Consolidated Appropriations Act, 2008, Public Law 110-161, section 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than June 5, 2009 (at least 7 days before the exemption becomes effective).

An original and 10 copies of all pleadings, referring to STB Finance Docket No. 35248, must be filed with the Surface Transportation Board, 395 E Street, SW., Washington, DC 20423-0001. In addition, a copy of each pleading must be served on Fritz R. Kahn, Fritz R. Kahn, P.C., 1920 N Street, NW., (8th floor), Washington, DC 20036.

Board decisions and notices are available on our Web site at http://www.stb.dot.gov.

Decided: May 21, 2009.
By the Board, Rachel D. Campbell, Director, Office of Proceedings.
Kulunie L. Cannon,
Clearance Clerk.

[FR Doc. E9-12368 Filed 5-28-09; 8:45 am]

BILLING CODE 4915-01-P